OFFICE OF PERSONNEL MANAGEMENT

5 CFR Part 410

RIN 3206—AK46

Training

AGENCY: Office of Personnel Management.

ACTION: Proposed rule.

SUMMARY: The Office of Personnel Management (OPM) is proposing to amend its regulations concerning agency reporting requirements on training. The purpose of the revision is to assist agencies to effectively collect information that supports agency determinations of its workforce training needs, and document the results of training and development programs implemented to address those needs, by requiring input into the OPM Governmentwide electronic data collection system.

DATES: Comments must be received on or before July 26, 2005.

ADDRESSES: Send, deliver, or fax written comments to Mark Doboga, Deputy Associate Director for Talent and Capacity Policy, U.S. Office of Personnel Management, Room 6551, 1900 E Street NW., Washington, DC 20415-9700; e-mail: employ@opm.gov; fax: (202) 606-2329.

FOR FURTHER INFORMATION CONTACT: Loretta L. Reeves by telephone at (202) 606-2419, by fax at (202) 606-2329, by TDD at (202) 418-3134, or by e-mail at Loretta.Reeves@opm.gov.

SUPPLEMENTARY INFORMATION: OPM is issuing proposed regulations to amend the rules in 5 CFR part 410, subparts C, D, and G, which address agency training records and reporting requirements. OPM is creating a Governmentwide electronic system to capture employee human resource information, which will include training data. This system is explained and agency reporting requirements defined in the Guide to Personnel Recordkeeping and the Guide to Human Resources Reporting.

To support this data collection, OPM is clarifying established policy to ensure that agencies maintain records of their training plans and to require that they report training data in the form as prescribed by the OPM Governmentwide Electronic Data Collection System. The Governmentwide system will allow agencies to maintain accurate records to facilitate reporting on a regular basis as prescribed by the Guide to Personnel Recordkeeping (www.opm.gov/feddata/persdoc.asp) and the Guide to Human Resources Reporting (www.opm.gov/feddata/guidance.asp). In addition, there is a change in the period of time required for retaining records in subparts C and D, and a new method for reporting requirements.

We seek comments from reviewers as to whether the proposed regulation clarifies agency's responsibility to reporting data to the governmentwide system and to assure the guides listed assist agencies with implementation processes for reporting the data elements.

E.O. 12866, Regulatory Review

This rule has been reviewed by the Office of Management and Budget in accordance with Executive Order 12866.

Regulatory Flexibility Act

I certify that these regulations would not have a significant economic impact on a substantial number of small entities because they would apply only to Federal agencies and employees.

List of Subjects in 5 CFR Part 410

Education, Government employees.

Office of Personnel Management.
Dan G. Blair,
Acting Director.

Accordingly, OPM proposes to amend part 410 of 5 CFR as follows:

PART 410—TRAINING

1. The authority citation for part 410 continues to read as follows:

Authority: 5 U.S.C. 4101, et seq., 4107; E.O. 11348, and (3 CFR, 1967 Comp., p 275).

Subpart C—Establishing and Implementing Training Programs

§ 410.311 [Removed]

2. Remove § 410.311.

Subpart D—Paying for Training Expenses

§ 410.406 [Removed]

3. Remove § 410.406.

Subpart G—Reporting

4. In subpart G, revise the subpart title to read as set forth above.

5. Revise § 410.701 to read as follows:

§ 410.701 Reporting.

(a) Each agency shall maintain records of training plans, expenditures, and activities in such form and manner as necessary to submit the recorded data to the Office of Personnel Management through the OPM Governmentwide Electronic Data Collection System.

(b) Each agency shall report the training data for its employees' training and development at such times and in such form as required for the OPM Governmentwide Electronic Data Collection System which is explained in the Guide to Personnel Recordkeeping and the Guide to Human Resources Reporting

(c) Each agency shall establish a Schedule of Records for information required to be maintained by this chapter in accordance with regulations promulgated by the National Archives and Records Administration (NARA).

[FR Doc. 05-10641 Filed 5-26-05; 8:45 am]

BILLING CODE 6325-38-P